DEPARTMENT OF EDUCATION

Office of Postsecondary Education; Overview Information; Jacob K. Javits Fellowship Program

Notice inviting applications for new awards for fiscal year (FY) 2005.

Catalog of Federal Domestic Assistance (CFDA) Number: 84.170A.

Dates: Applications Available: August 11, 2004.

Deadline for Transmittal of Applications for the Jacob K. Javits Fellowship Program: October 8, 2004.

Deadline for Transmittal of the Free Application for Federal Student Aid (FAFSA): January 31, 2005.

Eligible Applicants: Individuals who at the time of application: (1) Have not completed their first full year of study for a doctoral degree or a master's degree in those fields in which the master's degree is the terminal highest degree awarded in the selected field of study, or will be entering a doctoral degree program or a master's degree program in those fields in which the master's degree is the terminal highest degree awarded in the selected field of study in academic year 2005-2006; (2) are eligible to receive grant, loan, or work assistance pursuant to section 484 of the Higher Education Act of 1965, as amended (HEA); and (3) intend to pursue a doctoral or master's degree in fields selected by the JKJ Fellowship Board at accredited U.S. institutions of higher education. An individual must be a citizen or national of the United States, a permanent resident of the United States, in the United States for other than a temporary purpose and intending to become a permanent resident, or a citizen of any one of the Freely Associated States.

Estimated Available Funds: $2,928,305.

Estimated Average Size of Awards: $41,511.

Estimated Number of Awards: 71.

Note: The Department is not bound by any estimates in this notice.

Project Period: Up to 48 months.

Full Text of Announcement

I. Funding Opportunity Description

Purpose of Program: The purpose of the Jacob K. Javits (JKJ) Fellowship Program is to award fellowships to eligible students of superior ability, selected on the basis of demonstrated achievement, financial need, and exceptional promise, to undertake graduate study in selected fields in the arts, humanities, and social sciences leading to a doctoral degree or to a master's degree in those fields in which the master's degree is the terminal highest degree awarded in the selected field of study at accredited institutions of higher education. The selected fields in the arts are: creative writing, music performance, music theory, music composition, music literature, studio arts (including photography), television, film, cinematography, theater arts, playwriting, screenwriting, acting, and dance. The selected fields in the humanities are: art history (including architectural history), archeology, area studies, classics, comparative literature, English language and literature, folklore, folk life, foreign languages and literature, history, linguistics, philosophy, religion (excluding study of religious vocation), speech, rhetoric, and debate. The selected fields in the social sciences are: anthropology, communications and media, economics, ethnic and cultural studies, geography, political science, psychology (excluding clinical psychology), public policy and public administration, and sociology (excluding the master's and doctoral degrees in social work).

Program Authority: 20 U.S.C. 1134-1134d.

Applicable Regulations: (a) The Education Department General Administrative Regulations (EDGAR) in 34 CFR parts 74, 75 (except as provided in 34 CFR 650.3(b)), 77, 82, 84, 85, 86, 97, 98 and 99; and (b) The regulations for this program in 34 CFR part 650.

II. Award Information

Type of Award: Discretionary grant.

Estimated Available Funds: $2,928,305.

Estimated Average Size of Awards: $41,511.

Estimated Number of Awards: 71.

Note: The Department is not bound by any estimates in this notice.

Project Period: Up to 48 months.

III. Eligibility Information

1. Eligible Applicants: Individuals who at the time of application: (1) Have not completed their first full year of study for a doctoral degree or a master's degree in those fields in which the master's degree is the terminal highest degree awarded in the selected field of study, or will be entering a doctoral degree program or a master's degree program in those fields in which the master's degree is the terminal highest degree awarded in the selected field of study in academic year 2005-2006; (2) are eligible to receive grant, loan, or work assistance pursuant to section 484 of the HEA; and (3) intend to pursue a doctoral or master's degree in fields selected by the JKJ Fellowship Board at accredited U.S. institutions of higher education. An individual must be a citizen or national of the United States, a permanent resident of the United States, in the United States for other than a temporary purpose and intending to become a permanent resident, or a citizen of any one of the Freely Associated States.

2. Cost Sharing or Matching: There are no cost sharing or matching requirements for this program.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: www.ed.gov/edpubs.html or you may contact ED Pubs at its e-mail address: edpubs@inet.ed.gov.

The application may also be accessed on the JKJ Fellowship Program Web site: http://www.ed.gov/programs/iegpsjavits/index.html.

Note: The FAFSA may be obtained from the institution of higher education's financial aid office or accessed at: www.fafsa.ed.gov.

If you request an application from ED Pubs, be sure to identify this competition as follows: CFDA number 84.170A.

Individuals with disabilities may obtain a copy of the application package in an alternative format (e.g., Braille, large print, audiotape, or computer diskette) by contacting the program contact person listed under For Further Information Contact in section VII of this notice.

2. Content and Form of Application Submission: Requirements concerning the content of an application, together with the forms you must submit, are in the application package for this program.

3. Submission Dates and Times:

Applications Available: August 11, 2004.

Deadline for Transmittal of Applications for the JKJ Fellowship Program: October 8, 2004.

Deadline for Transmittal of the FAFSA: January 31, 2005.

The dates and times for the transmittal of applications by mail or by hand (including a courier service or commercial carrier) are in the application package for this program.

We do not consider an application that does not comply with the deadline requirements.

4. Intergovernmental Review: This program is not subject to Executive Order 12372 and the regulations in 34 CFR part 79.

5. Funding Restrictions: We reference regulations outlining funding restrictions in the Applicable Regulations section of this notice.

6. Other Submission Requirements: Instructions and requirements for the transmittal of applications by mail or by hand (including a courier service or commercial carrier) are in the application package for this program.

V. Application Review Information

1. Selection Criteria: The selection criteria for this program have been established by the Jacob K. Javits Program Fellowship Board, pursuant to section 702(a)(2) of the HEA and 34 CFR 650.20(a). The selection criteria for applications in the humanities and social sciences are: (a) Statement of purpose (100 points); (b) letters of recommendation (100 points); (c) academic record (150 points); and (d) scholarly awards/honors (50 points). The selection criteria for applications in the arts are: (a) Statement of purpose (100 points); (b) letters of recommendation (100 points); (c) academic record (50 points); (d) scholarly awards/honors (50 points); and (e) supporting arts materials (100 points).

2. Review and Selection Process: The review and selection process for the JKJ Fellowship Program consists of a two-part process. Eligible applications are read and rated by a distinguished panel of scholars and academics in each of fields of the arts, humanities, and social sciences on the basis of demonstrated scholarly achievements and exceptional promise. The second part of the evaluation is a determination of financial need.

VI. Award Administration Information

1. Award Notices: Successful applicants will be notified by telephone and a Grant Award Notification (GAN) will be sent directly to the institution the applicant will be attending. Unsuccessful applicants will be notified.

2. Administrative and National Policy Requirements: We identify administrative and national policy requirements in the application package and reference these and other requirements in the Applicable Regulations section of this notice.

We reference the regulations outlining the terms and conditions of an award in the Applicable Regulations section of this notice and include these and other specific conditions in the GAN.

3. Reporting: On an annual basis, fellows are required to submit their Student Aid Report to the Javits Program Coordinator at their institution as specified by the Secretary in 34 CFR 650.37.

4. Performance Measures: The effectiveness of the JKJ Fellowship Program will be measured by graduate completion rates, time to degree completion rates, and the costs per PhD of talented graduate students, with demonstrated financial need, who are pursuing the highest degree available in their designated fields of study. Institutions of higher education in which the fellows are enrolled are required to submit an annual report documenting the fellows' satisfactory academic progress and the determined financial need. The Department will use the reports to assess the program's success in assisting fellows in completing their course of study and receiving their degree.

VII. Agency Contacts

For Further Information Contact: Gary Thomas or Carmen Gordon, Jacob K. Javits Fellowship Program, U.S. Department of Education, Teacher and Student Development Service, 1990 K St., NW., suite 6000, Washington, DC 20006-8524. Telephone: (202) 502-7542 or via Internet: ope_javits_program@ed.gov.

If you use a telecommunications device for the deaf (TDD), you may call the Federal Information Relay Service (FIRS) at 1-800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: June 23, 2004.
Sally L. Stroup,
Assistant Secretary for Postsecondary Education.

[FR Doc. 04-14672 Filed 6-28-04; 8:45 am]

BILLING CODE 4000-01-P